DEPARTMENT OF COMMERCE

Census Bureau

Agency Information Collection Activities; Submission to the Office of Management and Budget (OMB) for Review and Approval; Comment Request; Building Permits Survey Program

AGENCY: Census Bureau, Department of Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed revision of the current Office of Management and Budget clearance for the surveys known as the Report of Building or Zoning Permits Issued for New Privately-Owned Housing Units (C-404) and the Survey of Residential Building or Zoning Permit Systems (C-411).

DATES: To ensure consideration, comments regarding this proposed information collection must be received on or before January 30, 2024.

ADDRESSES: Interested persons are invited to submit written comments by email to Thomas.J.Smith@census.gov. Please reference the Building Permits Survey Program in the subject line of your comments. You may also submit comments, identified by Docket Number USBC-2023-0013, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Aidan Smith, Construction Indicator Programs, Economic Indicators Division, U.S. Census Bureau, 301-763-2972, aidan.d.smith@census.gov.

SUPPLEMENTARY INFORMATION:

I. Abstract

The Census Bureau plans to request a revision of the current Office of Management and Budget clearance for the surveys known as the Survey of Residential Building or Zoning Permit Systems (C-411) and the Report of Building or Zoning Permits Issued for New Privately-Owned Housing Units (C-404). The C-411 and the C-404 are related collections sharing the same universe called the Active Governments File (AGF) universe. The C-411 is utilized to update the permit issuing status of all jurisdictions in the AGF. The C-404 is utilized to collect both monthly and annual data on the totals of new housing unit permits issued. These two surveys, currently cleared separately under control numbers 0607-0350 and 0607-0094, respectively, will therefore be combined under one control number and will be collectively called the Building Permits Survey Program.

The Census Bureau uses these surveys to produce statistics to monitor activity in the large and dynamic construction industry. These statistics help state and local governments and the Federal government, as well as private industry, to analyze this important sector of the economy. Building permits for new private housing units also are a component of The Conference Board's Leading Economic Index.

The Census Bureau uses the Form C-411 or individual questions from the form, as needed, to obtain information needed to update the universe of permit-issuing places from state and local building permit and zoning officials. Questions on the form pertain to the legal requirements for issuing building or zoning permits in the local jurisdictions. Information is obtained on such items as geographic coverage and types of construction for which permits are issued.

The universe of permit-issuing places is the sampling frame for the Building Permits Survey (BPS) and the Survey of Construction (SOC). These two sample surveys provide widely used measures of construction activity, including the monthly Principal Federal Economic Indicators Housing Units Authorized by Building Permits and Housing Starts.

For New Residential Construction (which includes Housing Units Authorized by Building Permits, Housing Starts, and Housing Completions), Form C-404 is used to collect the estimate for Housing Units Authorized by Building Permits. For New Residential Construction and Sales, the number of housing units authorized by building permits is a key component utilized in the estimation of housing units started, completed, and sold.

The Census Bureau uses Form C-404 to collect information on changes to the geographic coverage of permit-issuing places, the number and valuation of new residential housing units authorized by building permits, and additional information on residential permits valued at $2 million or more, including, but not limited to, site address and type of building. The Building Permits Survey is the only source of statistics on residential construction for states and smaller geographic areas. The Census Bureau uses the detailed geographic data collected from state and local officials on new residential construction authorized by building permits in the development of annual population estimates that are used by government agencies to allocate funding and other resources to local areas. Policymakers, planners, businesses, and others also use the detailed geographic data to monitor growth, plan for local services, and to develop production and marketing plans.

II. Method of Collection

Survey of Residential Building or Zoning Permit Systems (C-411):

One of three variants of the Form C-411 is sent to a jurisdiction when the Census Bureau needs to verify whether a new permit system has been established or an existing one has changed. This is based on the length of time since the jurisdiction last verified their permit issuing status, or on information the Census Bureau obtains from a variety of sources including survey respondents, regional planning councils, and data from the Census Bureau's Geography Division on newly incorporated jurisdictions. While the C-411 was previously a mailed paper form, the Census Bureau plans to add this collection to the standard online collection instrument (Centurion) in 2024.

There are three versions of the form:

• C-411(V) for verification of coverage for jurisdictions with existing permit systems,

• C-411(M) for municipalities where a new permit system may have been established,

• C-411(C) for counties where new permit systems may have been established.

Prior to 2022, the universe of permit issuing places was updated every 10 years. In 2012 and every ten years prior, we mailed the survey to approximately 20,000 jurisdictions that were designated in our records as non-permit issuing jurisdictions, or permit issuing jurisdictions that needed verification of coverage. In processing the 2012 survey, it was determined that it was too burdensome to the Census Bureau's staff to process all 20,000 jurisdictions in the same year. As a result, the process was spread out into 5-year intervals, starting with the mailing in 2017. In 2017, we mailed 3,500 priority jurisdictions of the potential 20,000, with the intent of mailing another priority group in 2022 to complete the 10-year collection cycle. The planned 2022 mailing was deferred. Beginning January 2023, we began updating the universe annually and as a result, we can now incorporate more frequent updates to non-permit issuing jurisdictions. Beginning in 2024 we expect to attempt to collect information from 3,150 jurisdictions annually using either the C-411(C) or C-411(M) regarding the existence of new permit-issuing systems, or to resolve coverage questions or issues concerning existing permit-issuing systems using the C-411(V). This will allow us to attempt collection on all 20,000 jurisdictions approximately every seven years, on a rotating basis.

Report of Building or Zoning Permits Issued for New Privately-Owned Housing Units (C-404):

Respondents may submit their data via internet or a mailed or faxed form. Some respondents choose to report over the phone or to send proprietary files containing permit information in lieu of returning the form.

The survey universe is comprised of approximately 20,000 local governments that issue building permits. Due to resource availability and the time required to complete the data review and analysis, the Census Bureau collects data from a selection of permit-issuing jurisdictions monthly, and the remainder of the jurisdictions annually. We collect this information monthly for about approximately 8,600 permit-issuing jurisdictions. We also collect this information annually for about 11,400 permit-issuing jurisdictions.

III. Data

OMB Control Numbers: 0607-0094, 0607-0350.

Form Numbers: C-404, C-411.

Type of Review: Regular submission, request for a revision of a currently approved collection.

Affected Public: State and local governments.

Estimated Number of Respondents: C-404—20,000; C-411—3,150.

Estimated Time Per Response: C-404—8 minutes for monthly respondents who report via internet, mail, or faxing the form, 23 minutes for annual respondents who report via internet, mail or faxing the form, and 3 minutes for monthly and annual respondents who report by telephone or send electronic files or printouts. C-411—15 minutes.

Estimated Total Annual Burden Hours: C-404—17,229 hours; C-411—788 hours.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Title 13 U.S.C. 131 and 182.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-26473 Filed 11-30-23; 8:45 am]

BILLING CODE 3510-07-P